DEPARTMENT OF ENERGY

Federal Energy Regulatory Commission

[Project No. 10624-026]

French Paper Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Subsequent Minor License.

b. Project No.: 10624-026.

c. Date filed: February 27, 2019.

d. Applicant: French Paper Company (French Paper).

e. Name of Project: French Paper Company Hydroelectric Project (French Paper Project).

f. Location: The French Paper Project is located on the St. Joseph River in the City of Niles, Berrien County, Michigan. No federal lands are occupied by the project works or located within the project boundary.

g. Filed Pursuant to: Federal Power Act 16 U.S.C. 791(a)-825(r).

h. Applicant Contact: Mr. Shane Fenske, President, French Paper Company, P.O. Box 398, 100 French Street, Niles, MI 49120; (269) 683-1100 or fenske@frenchpaper.com.

i. FERC Contact: Jay Summers, (202) 502-8764 or jay.summers@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10624-026.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The French Paper Project consists of the following existing facilities: (1) An 112 acre reservoir with a storage capacity of 864 acre-feet at a water surface elevation of 653.75 feet mean sea level; (2) a 321-foot-long, 13-foot-high concrete spillway structure, topped by 2.3-foot-high flashboards; (3) a 100-foot-wide, 600-foot-long intake channel; (4) a 115-foot-wide, 55-foot-long, 56-foot-high powerhouse with an operating head of 14 feet; (5) a floating debris boom at the entrance to the intake channel and two separate trash racks at the entrance to the powerhouse; (6) two vertical shaft propeller turbines each coupled to a 400-kilowatt (kW) generator, one vertical shaft propeller turbine coupled to a 300-kW generator, and one vertical shaft Francis turbine coupled to a 200-kW generator, for a total installed capacity of 1.3 megawatts; (7) a 6-foot-wide, 220-foot-long reinforced concrete fish ladder; (8) a 480-volt to 12-kilovolt (kV) transformer adjacent to the powerhouse; (9) a 0.16-mile-long, 3-phase, 3 wire 12-kV overhead interconnection line, tying into Indiana Michigan Power Company's transmission line adjacent to French Paper's property; and (10) appurtenant facilities.

The French Paper Project is operated in a run-of-river mode with an estimated annual energy production of approximately 8,442.8 megawatt-hours. French Paper proposes to continue operating the project in a run-of-river mode and does not propose any new construction or modifications to the project.

m. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, COMMENTS, REPLY COMMENTS, RECOMMENDATIONS, PRELIMINARY TERMS AND CONDITIONS, or PRELIMINARY FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following revised Hydro Licensing Schedule. Revisions to the schedule may be made as appropriate.

Milestone | Target date
Filing of recommendations, preliminary terms and conditions, and preliminary fishway prescriptions | January 2019.
Commission issues EA | June 2020.
Comments on EA | July 2020.
Modified terms and conditions | September 2020.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: November 5, 2019.
Kimberly D. Bose,
Secretary.

[FR Doc. 2019-24564 Filed 11-8-19; 8:45 am]

BILLING CODE 6717-01-P